DEPARTMENT OF COMMERCE

National Oceanic and Atmospheric Administration

[I.D. 090401B]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Reef Fish Stock Assessment Panel (RFSAP).

DATES: This meeting will begin at 9 a.m. on Monday, September 24, and conclude by 12 noon on Friday, September 28, 2001.

ADDRESSES: The meeting will be held at NMFS Southeast Fisheries Science Center, 75 Virginia Beach Drive, Miami, FL.

FOR FURTHER INFORMATION CONTACT: Peter Hood, Fishery Biologist, Gulf of Mexico Fishery Management Council, 3018 U.S. Highway 301 North, Suite 1000, Tampa, FL 33619; telephone: 813-228-2815.

SUPPLEMENTARY INFORMATION: The RFSAP will convene to review stock assessments on the status of the gag, vermilion snapper, and gray triggerfish stocks in the Gulf of Mexico. These stock assessments were prepared by NMFS and will be presented to the RFSAP. In the Report to Congress on the Status of Fisheries in the United States prepared by NMFS in January 2001, gag and vermilion snapper were listed as undergoing overfishing and gag was listed as approaching an overfished condition. The status of gray triggerfish was listed as unknown.

The RFSAP is composed of biologists who are trained in the specialized field of population dynamics. They advise the Council on the status of stocks and, when necessary, recommend a level of acceptable biological catch (ABC) needed to prevent overfishing or to effect a recovery of an overfished stock. They may also recommend catch restrictions needed to attain management goals.

Based on its review of the gag, vermilion snapper, and gray triggerfish stock assessments, the RFSAP may recommend a range of ABC for 2002, and may recommend management measures to achieve the ABC.

The conclusions of the RFSAP will be reviewed by the Council’s Standing and Special Reef Fish Scientific and Statistical Committee (SSC), Socioeconomic Panel (SEP), and Reef Fish Advisory Panel (RFAP) at meetings to be held in October, 2001. Gag is a component of the shallow-water grouper complex (which consists of red grouper, gag, yellowfin grouper, black grouper, scamp, yellowmouth grouper, rock hind, and red hind). The Council may set year 2002 total allowable catches (TAC), as well as other management measures for the gag component of the shallow-water grouper complex and for vermilion snapper and gray triggerfish at its meeting in Biloxi, MS on December 10-14, 2001.

Although other non-emergency issues not on the agendas may come before the RFSAP for discussion, in accordance with the Magnuson-Stevens Fishery Conservation and Management Act, those issues may not be the subject of formal action during these meetings. Actions of the RFSAP will be restricted to those issues specifically identified in the agendas and any issues arising after publication of this notice that require emergency action under Section 305 (c) of the Magnuson-Stevens Act, provided the public has been notified of the Council's intent to take action to address the emergency.

Special Accommodations

This meeting is physically accessible to people with disabilities. Requests for sign language interpretation or other auxiliary aids should be directed to Anne Alford at the Council (see ADDRESSES) by September 17, 2001.

Dated: September 5, 2001.
Richard W. Surdi,
Acting Director, Office of Sustainable Fisheries, National Marine Fisheries Service.

[FR Doc. 01-22645 Filed 9-7-01; 8:45 am]

BILLING CODE 3510-22-S